DEPARTMENT OF JUSTICE

Notice of Lodging of Consent Decree

Notice is hereby given that on September 23, 2010, an electronic version of a proposed Consent Decree was lodged in the United States District Court for District of Arizona in United States v. CalPortland Company, No. 4:10-CV-00573-DCB. The Consent Decree settles the United States' claims for civil penalties and injunctive relief against CalPortland Company (“CPC”) based on violations of the Clean Air Act (the “Act”), 42 U.S.C. 7401 et seq., and the Air Implementation Plan for the State of Arizona approved by EPA pursuant to the Act, in connection with modifications to CPC's cement manufacturing plant in Rillito, Arizona (the “Facility”).

Under the terms of the proposed Consent Decree, CPC will pay a civil penalty of $350,000 and will perform injunctive relief. The proposed decree sets forth two compliance options for CPC and requires CPC to inform EPA of its choice of compliance option within 30 days from the effective date of the decree.

Under Option 1, CPC will construct a new Kiln 6 as authorized by an Arizona Department of Environmental Quality permit within a 42-month time period and permanently shut down kilns 1-4 within six months of commencing operation of Kiln 6.

Under Option 2, CPC will continue to operate Kilns 1 through 4 but will install Particulate Matter controls (enclosures, spraybars and upgrades to existing baghouses) and accept more stringent limits than those already in the permit on equipment previously modified. Option 2 requires stricter opacity standards for some limestone storage piles, mill feed hoppers, and mill rejects bins. Option 2 also imposes lower emission limits on various baghouses and dust collectors and requires the installation of a bag leak detection system.

Option 2 also requires CPC to install software to optimize the operation of the existing kilns, which EPA expects will lead to reduced fuel use and reduced combustion emissions.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. CalPortland Company, No. 4:10-CV-00573-DCB and DOJ No. 90-5-2-1-08306.

The Consent Decree may be examined at the Office of the United States Attorney for the District of Arizona, 405 W. Congress Street, Suite 4800, Tucson, AZ 85701-5040. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $11.25 (25 cents per page reproduction cost) payable to the U.S. Treasury.

Maureen Katz,
Assistant Section Chief, Environmental Enforcement Section, Environment and Natural Resources Division.

[FR Doc. 2010-25876 Filed 10-13-10; 8:45 am]

BILLING CODE 4410-15-P